DEPARTMENT OF EDUCATION

Emergency Management for Higher Education Grant Program

AGENCY: Office of Safe and Drug-Free Schools, Department of Education.

ACTION: Notice of proposed priorities and requirements.

Catalog of Federal Domestic Assistance (CFDA) Number: 84.184T.

SUMMARY: The Assistant Deputy Secretary for Safe and Drug-Free Schools proposes priorities and requirements for the Emergency Management for Higher Education (EMHE) grant program. The Assistant Deputy Secretary may use one or more of these priorities and requirements for competitions in fiscal year (FY) 2010 and later years. Congress appropriated initial funding for the EMHE grant competition in FY 2008 following the tragic shooting at Virginia Polytechnic Institute and State University in 2007. That and other past emergencies, such as the events of September 11, 2001, Hurricanes Katrina and Rita, and the tragic shooting at Northern Illinois University, reinforce the need for colleges and universities to prepare for the full range of emergency events that may affect their campus communities. The EMHE grant program provides funds to institutions of higher education (IHEs) to establish or enhance an emergency management planning process that integrates the various components and departments of each IHE; focuses on reviewing, strengthening, and institutionalizing all-hazards emergency management plans; fosters partnerships with local and State community partners; supports vulnerability assessments; encourages training and drilling on the emergency management plan across the campus community; and requires IHEs to develop a written plan for preventing violence on campus by assessing and addressing the mental health needs of students, faculty, and staff who may be at risk of causing campus violence by harming themselves or others.

The Assistant Deputy Secretary intends to use these proposed priorities and requirements to provide Federal financial assistance to IHEs to develop, or review or improve, and fully integrate, their campus-based all-hazards emergency management planning efforts. We intend to grant awards under these proposed priorities and requirements to increase the capacity of IHEs to prevent/mitigate, prepare for, respond to, and recover from the full range of emergency events.

DATES: We must receive your comments on or before January 4, 2010.

ADDRESSES: Address all comments about this notice to Tara Hill, U.S. Department of Education, 400 Maryland Avenue, SW., room 10088, PCP, Washington, DC 20202-6450.

If you prefer to send your comments by e-mail, use the following address: tara.hill@ed.gov. You must include the term “FY 2010 EMHE NPP Comments” in the subject line of your electronic message.

FOR FURTHER INFORMATION CONTACT: Tara Hill. Telephone: (202) 245-7860 or by e-mail: tara.hill@ed.gov. If you use a telecommunications device for the deaf (TDD), call the Federal Relay Service (FRS), toll free, at 1-800-877-8339.

SUPPLEMENTARY INFORMATION: Invitation To Comment: We invite you to submit comments regarding this notice. To ensure that your comments have maximum effect in developing the notice of final priorities and requirements, we urge you to identify clearly the specific proposed priority or requirement that each comment addresses.

We invite you to assist us in complying with the specific requirements of Executive Order 12866 and its overall requirement of reducing regulatory burden that might result from these proposed priorities and requirements. Please let us know of any further ways we could reduce potential costs or increase potential benefits while preserving the effective and efficient administration of the program.

During and after the comment period, you may inspect all public comments about this notice in room 10088, 550 12th Street, SW., Washington, DC between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: EMHE grants support efforts by IHEs to develop, or review and improve, and fully integrate, campus-based all-hazards emergency management planning efforts within the framework of the four phases of emergency management (Prevention-Mitigation, Preparedness, Response, and Recovery).

Program Authority: 20 U.S.C. 7131.

Applicable Program Regulations: 34 CFR part 299.

Proposed Priorities

This notice contains two proposed priorities.

Proposed Priority 1—IHE Projects Designed to Develop, or Review and Improve, and Fully Integrate Campus-Based All-Hazards Emergency Management Planning Efforts

Background: In the report language accompanying the 2008 Department of Education Appropriations Act, Congress indicated that funding recommended for school emergency preparedness activities be used for new grant awards to institutions of higher education to develop and implement emergency management plans for preventing campus violence (including assessing and addressing the mental health needs of students) and for responding to threats and incidents of violence or natural disaster in a manner that ensures the safety of the campus community. Accordingly, the EMHE grant program was first administered in FY 2008 based on a priority similar to proposed priority 1 in this notice. A subsequent cohort of EMHE grants was awarded from the FY 2008 EMHE grant competition slate using FY 2009 EMHE funds. Our experience with EMHE grantees from these two cohorts is that developing all-hazards emergency management plans based on the four phases of emergency management (prevention-mitigation, preparedness, response and recovery) is a critical activity for campuses across the Nation. We propose this priority at this time to enable additional campuses to focus on reviewing, developing, and strengthening their emergency management efforts.

Proposed Priority: Under this proposed priority, we support IHE projects designed to develop, or review and improve, and fully integrate campus-based all-hazards emergency management planning efforts. A program funded under this proposed priority must use the framework of the four phases of emergency management (Prevention-Mitigation, Preparedness, Response, and Recovery) to:

(1) Develop, or review and improve, and fully integrate a campus-wide all-hazards emergency management plan that takes into account threats that may be unique to the campus;

(2) Train campus staff, faculty, and students in emergency management procedures;

(3) Coordinate with local and State government emergency management efforts;

(4) Ensure coordination of planning and communication across all relevant components, offices, and departments of the campus;

(5) Develop a written plan with emergency protocols that include the medical, mental health, communication, mobility, and emergency needs of persons with disabilities, as well as for those individuals with temporary special needs or other unique needs (including those arising from language barriers or cultural differences);

(6) Develop or update a written plan that prepares the campus for infectious disease outbreaks with both short-term implications for planning (e.g., outbreaks caused by methicillin-resistant Staphylococcus aureus (MRSA) or food-borne illnesses) and long-term implications for planning (e.g., pandemic influenza); and

(7) Develop or enhance a written plan for preventing violence on campus by assessing and addressing the mental health needs of students, staff, and faculty who may be at risk of causing violence by harming themselves or others.

Proposed Priority 2—Priority for Applicants that Have Not Previously Received a Grant under the EMHE Program (CFDA 84.184T)

Background: Ensuring that IHEs are attempting to prevent or mitigate, prepare for, respond to, and recover from emergency situations that may arise from multiple hazards, including natural and man-made, is an issue of national importance. Since FY 2008, 43 projects have received funding under the EMHE grant program. These projects represent a very small number of the colleges and universities in the United States today. To address the emergency management planning needs of IHEs that have not previously received funding under this program, we propose a priority for IHEs that have not yet received a grant under this program.

By establishing this priority, we hope to ensure that EMHE grant funds have a positive impact on a larger number of college students, faculty, and staff, and that the funds are made available to assist campuses that have not previously received services under an EMHE grant.

Proposed Priority: Under this proposed priority we give priority to applications from IHEs that have not previously received a grant under this program (CFDA 84.184T). An applicant that has received services under this program directly, or as a partner in a consortium application under this program, would not meet this priority. Under a consortium application, all members of the IHE consortium would have to meet this criterion to meet this proposed priority.

Types of Priorities: When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Requirements

Background: The EMHE program is intended to support colleges and universities seeking to develop, or review and improve, and fully integrate their campus-based all-hazards emergency management planning efforts. College campuses often consist of many distinct departments and offices serving such a significant number of students, staff, and faculty; they can often resemble small cities. For a campus to prevent or mitigate, prepare for, respond to, and recover from any emergency, an IHE needs to ensure that all of the diverse and relevant components of its campus or campuses are coordinated, communicating with one another, training together, and using an integrated all-hazards emergency management plan. It is essential that the written IHE emergency management plan take into account any unique hazards, vulnerabilities, or threats that may face the campus.

Further, our experience has shown that for an IHE to be prepared to respond effectively to an emergency, its planning efforts must be closely coordinated with local government and with local and State emergency management planning efforts. Ensuring that key first responders in the community, under the jurisdiction of the local government, have met and trained with key campus responders is critical to a successful response effort. Therefore, IHEs must establish and maintain partnerships with other key community partners within the locality and State in which the IHE is based. Particularly as our Nation faces the H1N1 pandemic, it is apparent that close communication with local and State public health partners is essential to timely response and service provision.

In addition, as recent events on college campuses have shown, identifying community-based mental health providers and maintaining ongoing relationships with those agencies is essential for IHE students and staff who may need additional mental health assistance if a major event were to occur. While many IHEs have access to general health and mental health services on their own campuses, in the event of a large-scale emergency, history shows that almost all IHEs will still need assistance from off-campus support.

Finally, our experience has shown that in many cases, college campuses are expected to serve as points of distribution (PODS) for medical supplies and services, or as shelter or evacuation locations, for the community in the case of major disasters. However, we recognize that not all IHEs have had the opportunity to develop these relationships with each of the key external community partners or agencies.

IHE emergency management plans should be based on the most current emergency management practices as established by the National Incident Management System (NIMS). In accordance with Homeland Security Presidential Directive/HSPD-5, the NIMS provides a consistent approach for Federal, State, and local governments to work effectively and efficiently together to prepare for, prevent, respond to, and recover from domestic incidents, regardless of cause, size, or complexity. Ensuring that public agencies at all levels of government, including IHEs, are implementing common emergency management principles, terminology, and organizational processes is critical to an effective and efficient response to an emergency.

Proposed Requirements: The Assistant Deputy Secretary proposes the following requirements for this program. We may apply one or more of these requirements in any year in which this program is in effect.

Partner Agreements: To be considered for a grant award, an applicant must include in its application two partner agreements. One partner agreement must detail coordination with, and participation of, a representative of the appropriate level of local or State government for the locality in which the IHE to be served by the project is located (for example, the mayor, city manager, or county executive). The second partner agreement must detail coordination with, and participation of, a representative from a local or State emergency management coordinating body (for example, the head of the local emergency planning council that would be involved in coordinating a large-scale emergency response effort in the campus community). Both agreements must include the name of the partner organization, an indication of whether the partner represents the local or State government or the local or State emergency management coordinating body, and a description of the respective partner as well as a description of the partner's roles and responsibilities in supporting the EMHE grant and in strengthening emergency management planning efforts for the IHE. Each partner agreement must also include a description of the roles and responsibilities of the IHE in grant implementation and partner coordination. A signature from an authorized representative of the IHE and each of the two required partners acknowledging the relationship and the agreements must be included in the application. If either or both of the two required partners is not present in an applicant's community, or cannot feasibly participate, the agreements must explain the absence of each missing partner.

Applications that fail to include either of the two required partner agreement forms, including information on partners' roles and responsibilities (or an explanation documenting that partner's absence in the community), will not be considered for funding.

Each consortium applicant (an applicant submitting on behalf of multiple IHEs) and any applicant applying on behalf of multiple campuses (including one or more satellite or extension campuses within its own institution or its consortium of IHEs) must submit a complete set of partner agreements with appropriate signatures from the authorized representative and the two required partners noted earlier for each campus proposed to be receiving services under its EMHE project.

Although this program requires partnerships with other parties, administrative direction and fiscal control for the project must remain with the IHE.

Completed Memoranda of Agreements: All IHEs supported by the EMHE program must use the grant period to create, or review and update, and sign, a memorandum of agreement (MOA) with each of the following four partners: local or State emergency management coordinating body, local government, primary off-campus public health provider, and primary off-campus mental health services provider. Each applicant under the EMHE program must include an assurance with its application that the IHE will establish these MOAs during the project period. MOAs must be completed for each campus to be served by the EMHE project. Completed MOAs will be requested at the end of the project period with the Final Report submission.

Coordination with State or Local Homeland Security Plan: All emergency management plans created or enhanced using funding under this program must be coordinated with the Homeland Security Plan of the State or locality in which the IHE is located. To ensure that emergency services are coordinated, and to avoid duplication of effort within States and localities, an applicant must include in its application an assurance that the IHE will coordinate with, and follow, the requirements of its State or local Homeland Security Plan for emergency services and initiatives.

Implementation of the National Incident Management System (NIMS): Each applicant must agree to implement its grant in a manner consistent with the implementation of the NIMS in its community. An applicant must include in its application an assurance that it has met, or will complete, all current NIMS requirements by the end of the grant period.

Implementation of the NIMS is a dynamic process that will continue to evolve over time. In order to receive Federal preparedness funding under the EMHE program, each IHE must cooperate with the efforts of its community to meet the minimum NIMS requirements established for each fiscal year. Because DHS' determination of NIMS requirements may change from year to year, an applicant must refer to the most recent list of NIMS requirements published by DHS when submitting its application. In any notice inviting applications, the Department will provide applicants with information necessary to access the most recent DHS list of NIMS requirements.

Note: The responsibilities and procedures of any campus-based security office or law enforcement agency and the elements of the campus emergency management plan must be considered in conjunction with the local community's emergency operations plan (EOP) and the capacity and responsibility of local fire and rescue departments, emergency medical service providers, crisis center/hotlines, and law enforcement agencies that may be called to assist the IHE in a large-scale disaster. IHEs' participation in the NIMS preparedness program of the local government is essential in ensuring that first-responder services are delivered in a timely and effective manner. Additional information about NIMS and NIMS implementation is available at http://www.fema.gov/emergency/nims/ImplementationGuidanceStakeholders.shtm and http://www.fema.gov/emergency/nims/index.shtm.

IHEs that have previously received Federal preparedness funding and are, therefore, already NIMS-compliant should indicate that in the assurance form.

Eligibility: To be considered for an award under this competition, an applicant must be considered an IHE. An IHE, for the purposes of this competition, is defined as: an educational institution in any State that—

(1) Admits as regular students only persons having a certificate of graduation from a school providing secondary education, or the recognized equivalent of such a certificate or persons who meet the requirements of section 484(d)(3) of the Higher Education Act of 1965, as amended;

(2) Is legally authorized within such State to provide a program of education beyond secondary education;

(3) Provides an educational program for which the institution awards a bachelor's degree or provides not less than a 2-year program that is acceptable for full credit toward such a degree or awards a degree that is acceptable for admission to a graduate or professional degree program, subject to review and approval by the Secretary;

(4) Is a public or other nonprofit institution; and

(5) Is accredited by a nationally recognized accrediting agency or association or, if not so accredited, is an institution that has been granted preaccreditation status by such an agency or association that has been recognized by the Secretary for the granting of preaccreditation status, and the Secretary has determined that there is satisfactory assurance that the institution will meet the accreditation standards of such an agency or association within a reasonable time.

Final Priorities and Requirements: We will announce the final priorities and requirements in a notice in the Federal Register. We will determine the final priorities and requirements after considering responses to this notice and other information available to the Department. This notice does not preclude us from proposing additional priorities, requirements, definitions, or selection criteria, subject to meeting applicable rulemaking requirements.

Note: This notice does not solicit applications. In any year in which we choose to use one or more of these priorities and requirements, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priorities and requirements justify the costs.

We have determined, also, that this proposed regulatory action does not unduly interfere with State, local, and Tribal governments in the exercise of their governmental functions.

Discussion of Costs and Benefits: The potential costs associated with the proposed priorities and requirements are minimal while the potential benefits are significant.

Grantees may anticipate costs in developing and/or disseminating written emergency management plans, implementing the NIMS requirements, and conducting training and drills of the improved emergency management plans. Grantees may also anticipate costs in achieving increased cross-campus collaboration and partnering with local and State community partners. Finally, grantees will experience costs when traveling to required grant administration training events sponsored by the Department. However, these costs may be included in the grant budget and, therefore, will have little or no financial impact on the applicant.

The benefit of the proposed priorities and requirements is that grantees will develop a comprehensive, all-hazards, campus-based, NIMS-compliant emergency management plan based on the four phases of emergency management. Training provided for staff and students will increase the IHE's overall preparedness efforts. Developing written plans for assessing and addressing the mental health needs of students and staff who may be at risk of causing harm to themselves or others on campus could help to prevent future tragedies on campuses. In addition, by having written plans designed to address infectious diseases with both short- and long-term impacts for the campus and the community, IHEs may be able to mitigate the adverse effects of these hazards, which in turn could result in significant savings in health care and other financial costs for the community. In summary, completing a comprehensive emergency management planning effort in advance of an emergency will allow IHEs to prepare to respond and recover from any type of emergency that may occur. An ultimate goal of the EMHE program is to decrease the resulting costs to IHEs in terms of lost resources, facilities, time, and causalities that may result from an actual emergency.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to this Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: December 1, 2009.
Kevin Jennings,
Assistant Deputy Secretary for Safe and Drug-Free Schools.

[FR Doc. E9-28994 Filed 12-3-09; 8:45 am]

BILLING CODE 4000-01-P